DEPARTMENT OF TRANSPORTATION

Federal Aviation Administration

14 CFR Part 39

[Docket No. FAA-2015-3632; Directorate Identifier 2015-NM-023-AD; Amendment 39-18590; AD 2016-14-09]

RIN 2120-AA64

Airworthiness Directives; Airbus Airplanes

AGENCY: Federal Aviation Administration (FAA), Department of Transportation (DOT).

ACTION: Final rule.

SUMMARY: We are superseding Airworthiness Directive (AD) 2014-14-06 for all Airbus Model A318-111 and -112 airplanes; Model A319-111, -112, -113, -114, and -115 airplanes; Model A320-111, -211, -212, and -214 airplanes; and Model A321-111, -112, -211, -212, and -213 airplanes. AD 2014-14-06 required inspecting the aft engine mount retainers for surface finish, cracks, and failure, and replacement if necessary. This new AD requires repetitive inspections for damaged, cracked, broken, and missing aft engine mount retainers, and replacement if necessary. This AD was prompted by inspection results that have shown that the main cause of crack initiation in the aft engine mount retainers is the vibration dynamic effect that affects both retainers, either with “dull” or “bright” surface finishes. We are issuing this AD to detect and correct failure of retainer brackets of the aft engine mount and consequent loss of the locking feature of the nuts of the inner and outer pins; loss of the pins will result in the aft mount engine link no longer being secured to the aft engine mount.

DATES: This AD is effective August 16, 2016.

The Director of the Federal Register approved the incorporation by reference of certain publications listed in this AD as of August 16, 2016.

The Director of the Federal Register approved the incorporation by reference of certain other publications listed in this AD as of August 27, 2014 (79 FR 42655, July 23, 2014).

ADDRESSES: For Airbus service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

For Goodrich Aerostructures service information identified in this AD, contact Goodrich Aerostructures, 850 Lagoon Drive, Chula Vista, CA 91910-2098; telephone 619-691-2719; email jan.lewis@goodrich.com; Internet http://www.goodrich.com/TechPubs.

You may view this referenced service information at the FAA, Transport Airplane Directorate, 1601 Lind Avenue SW., Renton, WA. For information on the availability of this material at the FAA, call 425-227-1221. It is also available on the Internet at http://www.regulations.gov by searching for and locating Docket No. FAA-2015-3632.

Examining the AD Docket

You may examine the AD docket on the Internet at http://www.regulations.gov by searching for and locating Docket No. FAA-2015-3632; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 to supersede AD 2014-14-06, Amendment 39-17901 (79 FR 42655, July 23, 2014) (“AD 2014-14-06”). AD 2014-14-06 applied to all Model A318-111 and -112 airplanes; Model A319-111, -112, -113, -114, and -115 airplanes; Model A320-111, -211, -212, and -214 airplanes; and Model A321-111, -112, -211, -212, and -213 airplanes. The NPRM published in the Federal Register on September 17, 2015 (80 FR 55798) (“the NPRM”). The NPRM was prompted by inspection results that have shown that the main cause of crack initiation in the aft engine mount retainers is the vibration dynamic effect that affects both retainers, either with “dull” or “bright” surface finishes. The NPRM proposed to continue to require inspecting the aft engine mount retainers for surface finish, cracks, and failure, and replacement if necessary. The NPRM also proposed to require repetitive inspections for damaged, cracked broken, and missing aft engine mount retainers, and replacement if necessary. We are issuing this AD to detect and correct failure of retainer brackets of the aft engine mount and consequent loss of the locking feature of the nuts of the inner and outer pins; loss of the pins will result in the aft mount engine link no longer being secured to the aft engine mount.

The European Aviation Safety Agency (EASA), which is the Technical Agent for the Member States of the European Union, has issued EASA Airworthiness Directive 2015-0021, dated February 13, 2015 (referred to after this as the Mandatory Continuing Airworthiness Information, or “the MCAI”), to correct an unsafe condition. The MCAI states:

During in-service inspections, several aft engine mount retainers, fitted on aeroplanes equipped with CFM56-5A/5B engines, have been found broken. The results of the initial investigations highlighted that two different types of surface finish had been applied (respectively bright and dull material finishes), and that dull finish affects the strength of the retainer with regard to fatigue properties of the part. The pins which attach the engine link to the aft mount are secured by two nuts, which do not have a self-locking feature; this function is provided by the retainer brackets. In case of failure of the retainer bracket, the locking feature of the nuts of the inner and outer pins is lost; as a result, these nuts could subsequently become loose.

In case of full loss of the nuts, there is the potential to also lose the pins, in which case the aft mount link will no longer be secured to the aft engine mount. The same locking feature is used for the three link assemblies of the aft mount.

This condition, if not detected and corrected, could lead to in-flight loss of an aft mount link, possibly resulting in damage to the aeroplane and injury to person on the ground.

To address this potential unsafe condition, EASA issued AD 2013-0050 (http://ad.easa.europa.eu/blob/easa_ad_2013_0050_superseded.pdf/AD_2013-0050_1 [which corresponds to FAA AD 2014-14-06] to require detailed inspections (DET) of the aft engine mount retainers and the replacement of all retainers with dull finish with retainers having a bright finish.

Since that [EASA] AD was issued, inspection results have shown that the main cause of crack initiation remains the vibration dynamic effect that affects both retainers, either with “dull” or “bright” surface finishes. The non-conforming “dull” surface's pitting is an aggravating factor.

For the reasons described above, this [EASA] AD retains the requirements of EASA AD 2013-0050, which is superseded, and requires repetitive DET of all aft engine mount retainers and, depending on findings [damaged, cracked, broken, or missing retainers], their replacement.

This [EASA] AD is considered to be an interim action, pending development and availability of a final solution.

You may examine the MCAI in the AD docket on the Internet at http://www.regulations.gov by searching for and locating Docket No. FAA-2015-3632.

Comments

We gave the public the opportunity to participate in developing this AD. The following presents the comments received on the NPRM and the FAA's response to each comment.

Request To Use Alternative Inspection Method

Delta Airlines (DAL) requested that we revise paragraph (m) of the NPRM to approve use of a boroscope with 10X magnification when performing the inspection of the center aft engine mount inner retainer as an option to removing the center retainer. DAL stated that this procedure was allowed by the FAA in Alternative Method of Compliance (AMOC) ANM-116-14-423, dated September 16, 2014, for AD 2014-14-06. DAL stated that this procedure provides an equivalent level of safety since the detectability of the subject condition using this alternate inspection method is the same as a detailed visual inspection using 10X magnification, mirror, and light.

We disagree with DAL's request. AMOC ANM-116-14-423, dated September 16, 2014, provides an AMOC for replacing 10X magnification, mirror, and light with a boroscope with 10X magnification but that AMOC is not an option to removing the center retainer. However, under the provisions of paragraph (q)(1) of this AD, we will consider requests for approval of alternative procedures, if sufficient data are submitted to substantiate that the change would provide an acceptable level of safety. We have not changed this AD in this regard.

We have clarified in paragraph (q)(1)(ii) of this AD that AMOCs approved previously for AD 2014-14-06, are approved as AMOCs for the corresponding provisions of paragraphs (g) and (i) of this AD.

Request To Use Later Revisions of Service Information

DAL requested that we permit use of later approved revisions of the service information. DAL stated that Airbus has released Airbus Service Bulletin A320-71-1060, Revision 01, dated April 7, 2015.

We partially agree with DAL's request. We do not agree to include an allowance for later approved revisions of the referenced service information. When referring to a specific service document in an AD, using the phrase, “or later FAA-approved revisions,” violates the Office of the Federal Register's regulations for approving materials that are incorporated by reference. See 1 CFR 51.1(f).

However, affected operators may request approval to use a later revision of the referenced service document as an alternative method of compliance, under the provisions of paragraph (q)(1) of this AD. We have not changed this AD in this regard.

We agree to reference to Airbus Service Bulletin A320-71-1060, Revision 01, dated April 7, 2015, in this final rule as the appropriate source of service information for accomplishing the actions required by paragraphs (l) and (m) of this AD (referred to as paragraphs (m) and (n) in the proposed AD).

We have also redesignated paragraph (l) of the proposed AD to paragraph (p)(1) of this AD (the paragraph retains existing credit information) and added new paragraphs (p)(2) and (p)(3) of this AD to provide provisional credit for Airbus Service Bulletin A320-71-1060, dated October 9, 2014. For operators to obtain credit for Airbus Service Bulletin A320-71-1060, dated October 9, 2014, for the replacement, operators must use the torque value units applicable to nut item (14) specified in Airbus Service Bulletin A320-71-1060, Revision 01, dated April 7, 2015. Those torque value units were incorrectly stated in Airbus Service Bulletin A320-71-1060, dated October 9, 2014.

Conclusion

We reviewed the available data, including the comments received, and determined that air safety and the public interest require adopting this AD with the changes described previously and minor editorial changes. We have determined that these changes:

• Are consistent with the intent that was proposed in the NPRM for correcting the unsafe condition; and

• Do not add any additional burden upon the public than was already proposed in the NPRM.

Related Service Information Under 1 CFR Part 51

Airbus has issued Service Bulletin A320-71-1060, Revision 01, dated April 7, 2015. This service information describes procedures for inspecting the aft engine mount retainers for surface finish (dull or bright), for damaged, cracked, broken, or missing retainers, and replacement.

Goodrich Aerostructures has issued Service Bulletin RA32071-160, dated September 18, 2014. This service information describes procedures for inspecting the aft engine mount inner retainers for cracks or failure, and replacement.

This service information is reasonably available because the interested parties have access to it through their normal course of business or by the means identified in the ADDRESSES section.

Costs of Compliance

We estimate that this AD affects 922 airplanes of U.S. registry.

The actions required by AD 2014-14-06, and retained in this AD, take about 3 work-hours per product, at an average labor rate of $85 per work-hour. Based on these figures, the estimated cost of the actions that are were required by AD 2014-14-06 is $255 per inspection cycle per product (for two engines).

We also estimate that it would take about 10 work-hours per product to comply with the basic requirements of this AD, and 1 work-hour per product to report inspection findings. The average labor rate is $85 per work-hour. Based on these figures, we estimate the cost of this AD on U.S. operators to be $862,070, or $935 per product.

In addition, we estimate that any necessary follow-on actions would take about 2 work-hours and require parts costing $10,000, for a cost of $10,170 per product. We have no way of determining the number of airplanes that might need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-14-06, Amendment 39-17901 (79 FR 42655, July 23, 2014), and adding the following new AD:

2016-14-09 Airbus: Amendment 39-18590. Docket No. FAA-2015-3632; Directorate Identifier 2015-NM-023-AD.

(a) Effective Date

This AD is effective August 16, 2016.

(b) Affected ADs

This AD replaces AD 2014-14-06, Amendment 39-17901 (79 FR 42655, July 23, 2014) (“AD 2014-14-06”).

(c) Applicability

This AD applies to the Airbus airplanes identified in paragraphs (c)(1) through (c)(4) of this AD, certificated in any category, all manufacturer serial numbers.

(1) Airbus Model A318-111 and -112 airplanes.

(2) Airbus Model A319-111, -112, -113, -114, and -115 airplanes.

(3) Airbus Model A320-211, -212, and -214 airplanes.

(4) Airbus Model A321-111, -112, -211, -212, and -213 airplanes.

(d) Subject

Air Transport Association (ATA) of America Code 71, Powerplant.

(e) Reason

This AD was prompted by inspection results that have shown that the main cause of crack initiation in the aft engine mount retainers is the vibration dynamic effect that affects both retainers, either with “dull” or “bright” surface finishes. We are issuing this AD to detect and correct failure of retainer brackets of the aft engine mount and consequent loss of the locking feature of the nuts of the inner and outer pins; loss of the pins will result in the aft mount engine link no longer being secured to the aft engine mount.

(f) Compliance

Comply with this AD within the compliance times specified, unless already done.

(g) Retained Inspection, With No Changes

This paragraph restates the requirements of paragraph (g) of AD 2014-14-06, with no changes. Within 3 months after August 27, 2014 (the effective date of AD 2014-14-06): Do a detailed inspection of the aft engine mount retainers for surface finish (dull or bright), and for cracks and failure, in accordance with Section 4.2.2, “Inspection Requirements,” of Airbus Alert Operators Transmission (AOT) A71N001-12, Rev. 2, dated February 27, 2013, except as specified in paragraph (h) of this AD.

(h) Retained Exception to Paragraph (g) of This AD, With No Changes

This paragraph restates the requirements of paragraph (h) of AD 2014-14-06, with no changes. The actions required by paragraph (g) of this AD are not required to be done on airplanes with manufacturer serial numbers 4942 and higher, provided a review of maintenance records verifies that no aft engine mount retainers have been replaced since first flight of the airplane.

(i) Retained Repetitive Inspection and Retainer Replacement for Dull Finish Retainers, With No Changes

This paragraph restates the requirements of paragraph (i) of AD 2014-14-06, with no changes. If, during the detailed inspection required by paragraph (g) of this AD, any installed dull finish aft engine mount retainer is found without cracks and not failed: Do the actions specified in paragraphs (i)(1) and (i)(2) of this AD.

(1) Within 25 flight cycles after doing the actions required by paragraph (g) of this AD: Repeat the detailed inspection specified in paragraph (g) of this AD.

(2) Within 50 flight cycles after doing the first detailed inspection specified in paragraph (g) of this AD: Replace all dull finish retainers with new retainers, in accordance with Section 4.2.3.1, “Replacement Procedure,” of Airbus AOT A71N001-12, Rev. 2, dated February 27, 2013.

(j) Retained Replacement of Cracked or Failed Retainers, With No Changes

This paragraph restates the requirements of paragraph (j) of AD 2014-14-06, with no changes. If, during any detailed inspection specified in paragraph (g) of this AD, any installed aft engine mount retainer is found cracked or failed: Before further flight, replace all affected aft engine mount retainers with new retainers, in accordance with Section 4.2.3, “Replacement Procedure,” of Airbus AOT A71N001-12, Rev. 2, dated February 27, 2013.

(k) Retained Parts Prohibition, With No Changes

This paragraph restates the requirements of paragraph (k) of AD 2014-14-06, with no changes. As of August 27, 2014 (the effective date of AD 2014-14-06), no person may install any aft engine mount retainer with a dull finish on any airplane. The instructions of Airbus AOT A71N001-12, Rev. 2, dated February 27, 2013; or the Accomplishment Instructions of Goodrich Service Bulletin RA32071-146, Rev. 2, dated July 26, 2012; may be used to verify the correct finish of the part.

(l) New Requirement of This AD: Repetitive Inspections

At the latest of the applicable times specified in paragraphs (l)(1), (l)(2), and (l)(3) of this AD: Do a detailed inspection for damaged, cracked, broken, or missing aft engine mount retainers, in accordance with the Accomplishment Instructions of Airbus Service Bulletin A320-71-1060, Revision 01, dated April 7, 2015; or Goodrich Service Bulletin RA32071-160, dated September 18, 2014. Repeat the inspection of the aft engine mount retainers thereafter at intervals not to exceed 12 months.

(1) Within 12 months since the date of issuance of the original airworthiness certificate or the date of issuance of the original export certificate of airworthiness.

(2) Within 12 months after installation of new retainers.

(3) Within 9 months after the effective date of this AD.

(m) New Requirement of This AD: Replacement of Retainers With Findings

If, during any detailed inspection specified in paragraph (l) of this AD, any installed aft engine mount retainer is found damaged, cracked, broken, or missing: Before further flight, replace all affected aft engine mount retainers with new retainers, in accordance with the Accomplishment Instructions of Airbus Service Bulletin A320-71-1060, Revision 01, dated April 7, 2015.

(n) New Requirement of This AD: No Terminating Action

Replacement of retainers on an airplane, as required by paragraph (m) of this AD, does not constitute terminating action for the repetitive inspections required by paragraph (l) of this AD for that airplane.

(o) New Requirement of This AD: Required Reporting

Submit a report of positive findings of any inspection required by paragraph (l) of this AD to Airbus at the applicable time specified in paragraph (o)(1) or (o)(2) of this AD. The report must include the inspection results, a description of any discrepancies found, the airplane serial number, and the number of landings and flight hours on the airplane.

(1) If the inspection was done on or after the effective date of this AD: Submit the report within 30 days after the inspection.

(2) If the inspection was done before the effective date of this AD: Submit the report within 30 days after the effective date of this AD.

(p) Credit for Previous Actions

(1) This paragraph restates the provisions of paragraph (l) of AD 2014-14-06, with no changes. This paragraph provides credit for actions required by paragraphs (g), (i), and (j) of this AD, if those actions were performed before August 27, 2014 (the effective date of AD 2014-14-06) using Airbus AOT A71N001-12, Rev. 1, dated August 9, 2012. This service information is not incorporated by reference in this AD.

(2) This paragraph provides credit for actions required by paragraph (l) of this AD, if those actions were performed before the effective date of this AD using Airbus Service Bulletin A320-71-1060, dated October 9, 2014. Airbus Service Bulletin A320-71-1060, dated October 9, 2014, is not incorporated by reference in this AD.

(3) This paragraph provides credit for actions required by paragraph (m) of this AD, if those actions were performed before the effective date of this AD using Airbus Service Bulletin A320-71-1060, dated October 9, 2014, provided that it can be conclusively determined that the torque value units applicable to nut item (14) that are specified in Airbus Service Bulletin A320-71-1060, Revision 01, dated April 7, 2015, have been used. Airbus Service Bulletin A320-71-1060, dated October 9, 2014, is not incorporated by reference in this AD.

(q) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2014-14-06, are approved as AMOCs for the corresponding provisions of paragraphs (g), (i), (j), and (k) of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(4) Required for Compliance (RC): If any Airbus service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in a serviceable condition. Any substitutions or changes to procedures or tests identified as RC require approval of an AMOC.

(r) Special Flight Permits

Special flight permits, as described in Section 21.197 and Section 21.199 of the Federal Aviation Regulations (14 CFR 21.197 and 21.199), are not allowed.

(s) Related Information

(1) Refer to Mandatory Continuing Airworthiness Information (MCAI) EASA Airworthiness Directive 2015-0021, dated February 13, 2015, for related information. This MCAI may be found in the AD docket on the Internet at http://www.regulations.gov by searching for and locating Docket No. FAA-2015-3632.

(2) Service information identified in this AD that is not incorporated by reference is available at the addresses specified in paragraphs (t)(5), (t)(6), and (t)(7) of this AD.

(t) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on August 16, 2016.

(i) Airbus Service Bulletin A320-71-1060, Revision 01, dated April 7, 2015.

(ii) Goodrich Service Bulletin RA32071-160, dated September 18, 2014.

(4) The following service information was approved for IBR on August 27, 2014 (79 FR 42655, July 23, 2014).

(i) Airbus Alert Operators Transmission A71N001-12, Rev. 2, dated February 27, 2013. The first page of this document contains the document number, revision, and date; no other page of this document contains this information.

(ii) Goodrich Service Bulletin RA32071-146, Rev. 2, dated July 26, 2012.

(5) For Airbus service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(6) For Goodrich Aerostructures service information identified in this AD, contact Goodrich Aerostructures, 850 Lagoon Drive, Chula Vista, CA 91910-2098; telephone 619-691-2719; email jan.lewis@goodrich.com; Internet http://www.goodrich.com/TechPubs.

(7) You may view this service information at the FAA, Transport Airplane Directorate, 1601 Lind Avenue SW., Renton, WA. For information on the availability of this material at the FAA, call 425-227-1221.

(8) You may view this service information that is incorporated by reference at the National Archives and Records Administration (NARA). For information on the availability of this material at NARA, call 202-741-6030, or go to: http://www.archives.gov/federal-register/cfr/ibr-locations.html.

Issued in Renton, Washington, on July 1, 2016.
Phillip Forde,
Acting Manager, Transport Airplane Directorate, Aircraft Certification Service.

[FR Doc. 2016-16212 Filed 7-11-16; 8:45 am]

BILLING CODE 4910-13-P